DEPARTMENT OF LABOR

Employment and Training Administration

[TA-W-65,122]

Gunderson Rail Services, LLC, dba Greenbrier Rail Services, a Subsidiary of the Greenbrier Companies, Chicago Heights, IL; Notice of Termination of Investigation

Pursuant to Section 221 of the Trade Act of 1974, as amended, an investigation was initiated on February 4, 2009 in response to a worker petition filed by workers of Gunderson Rail Services, LLC, dba Greenbrier Rail Services, a subsidiary of The Greenbrier Companies, Chicago Heights, Illinois.

The petitioner has requested that the petition be withdrawn. Consequently, the investigation has been terminated.

Signed at Washington, DC, this 14th day of April 2009.
Elliott S. Kushner,
Certifying Officer, Division of Trade Adjustment Assistance.

[FR Doc. E9-10869 Filed 5-8-09; 8:45 am]

BILLING CODE 4510-FN-P